DEPARTMENT OF THE TREASURY

Submission for OMB Review; Comment Request

December 19, 2003.

The Department of the Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before February 2, 2004 to be assured of consideration.

Alcohol and Tobacco Tax and Trade Bureau (TTB)

OMB Number: 1513-0032.

Form Number: TTB F 3067 (5210.9).

Type of Review: Extension.

Title: Manufacturer of Tobacco Products.

Description: This form is necessary to determine the beginning and ending inventories of tobacco products at the premises of a tobacco products manufacturer. The inventory is recorded on this form by the proprietor and is used to determine tax liability, compliance with regulations and for protection.

Respondents: Business of other for-profit, farms.

Estimated Number of Respondents: 34.

Estimated Burden Hours per Respondent: 5 hours.

Frequency of Response: On occasion.

Estimated Total Reporting Burden: 170 hours.

OMB Number: 1513-0059.

Recordkeeping Requirement ID Number: TTB REC 5150/3.

Type of Review: Extension.

Title: Usual and Customary Business Records Relating to Tax-Free Alcohol.

Description: Tax-free alcohol is used for nonbeverage purposes by educational organizations, hospitals, laboratories, etc. Records maintain spirits accountability and protect tax revenue and public safety.

Respondents: Not-for-profit institutions, Federal Government, State, local or tribal government.

Estimated Number of Recordkeepers: 4,560.

Estimated Burden Hours per Recordkeeper: 1 hour.

Frequency of Response: On occasion.

Estimated Total Recordkeeping Burden: 1 hour.

OMB Number: 1513-0061.

Recordkeeping Requirement ID Number: TTB REC 5150/2.

Type of Review: Extension.

Title: Letterhead Applications and Notices Relating to Denatured Spirits.

Description: Denatured spirits are used for nonbeverage industrial purposes in the manufacture of personal/household products. Permits/Applications control the authorized use and flow. Tax revenue and public safety is protected.

Respondents: Business or other for-profit, not-for-profit institutions, State, local or tribal government.

Estimated Number of Recordkeepers: 3,111.

Estimated Burden Hours per Recordkeeper: 30 minutes.

Frequency of Response: On occasion.

Estimated Total Recordkeeping Burden: 1,556 hours.

OMB Number: 1513-0068.

Recordkeeping Requirement ID Number: TTB REC 5210/1.

Type of Review: Extension.

Title: Tobacco Products Manufactures—Records Operations.

Description: Tobacco products manufacturers must maintain a system of records that provide accountability over the tobacco products received and produced. Needed to ensure tobacco transaction to be traced, and ensure that tax liabilities have been totally satisfied.

Respondents: Business or other for-profit.

Estimated Number of Recordkeepers: 108.

Estimated Burden Hours per Recordkeeper: 150 hours.

Frequency of Response: On occasion.

Estimated Total Recordkeeping Burden: 16,200 hours.

OMB Number: 1513-0071.

Recordkeeping Requirement ID Number: TTB REC 5230/1.

Type of Review: Extension.

Title: Tobacco Products Importer or Manufacturer—Records of Large Cigar Wholesale Prices.

Description: Because the tax on large cigars is based on the sales price, this record is needed to verify that the correct tax has been determined by the manufacturer or importer.

Respondents: Business of other for-profit.

Estimated Number of Recordkeepers: 108.

Estimated Burden Hours per Recordkeeper: 2 hours, 20 minutes.

Frequency of Response: On occasion.

Estimated Total Recordkeeping Burden: 252 hours.

Clearance Officer: William H. Foster, (202) 927-8210, Alcohol and Tobacco Tax and Trade Bureau, Room 200 East, 1310 G. Street, NW., Washington, DC 20005.

OMB Reviewer: Joseph F. Lackey, Jr., (202) 395-7316, Office of Management and Budget, Room 10235, New Executive Office Building, Washington, DC 20503.

Lois K. Holland,
Treasury PRA Clearance Officer.

[FR Doc. 03-32262 Filed 12-31-03; 8:45 am]

BILLING CODE 4810-31-P